DEPARTMENT OF COMMERCE

International Trade Administration

Initiation of Antidumping and Countervailing Duty Administrative Reviews

AGENCY: Enforcement and Compliance, International Trade Administration, Department of Commerce.

SUMMARY: The Department of Commerce (Commerce) has received requests to conduct administrative reviews of various antidumping and countervailing duty orders and findings with April anniversary dates. In accordance with Commerce's regulations, we are initiating those administrative reviews.

DATES: Applicable June 13, 2019.

FOR FURTHER INFORMATION CONTACT: Brenda E. Brown, Office of AD/CVD Operations, Customs Liaison Unit, Enforcement and Compliance, International Trade Administration, U.S. Department of Commerce, 1401 Constitution Avenue NW, Washington, DC 20230, telephone: (202) 482-4735.

SUPPLEMENTARY INFORMATION:

Background

Commerce has received timely requests, in accordance with 19 CFR 351.213(b), for administrative reviews of various antidumping and countervailing duty orders and findings with April anniversary dates.

All deadlines for the submission of various types of information, certifications, or comments or actions by Commerce discussed below refer to the number of calendar days from the applicable starting time.

Notice of No Sales

If a producer or exporter named in this notice of initiation had no exports, sales, or entries during the period of review (POR), it must notify Commerce within 30 days of publication of this notice in the Federal Register. All submissions must be filed electronically at http://access.trade.gov in accordance with 19 CFR 351.303.¹ Such submissions are subject to verification in accordance with section 782(i) of the Tariff Act of 1930, as amended (the Act). Further, in accordance with 19 CFR 351.303(f)(1)(i), a copy must be served on every party on Commerce's service list.

¹ See Antidumping and Countervailing Duty Proceedings: Electronic Filing Procedures; Administrative Protective Order Procedures, 76 FR 39263 (July 6, 2011).

Respondent Selection

In the event Commerce limits the number of respondents for individual examination for administrative reviews initiated pursuant to requests made for the orders identified below, Commerce intends to select respondents based on U.S. Customs and Border Protection (CBP) data for U.S. imports during the POR. We intend to place the CBP data on the record within five days of publication of the initiation notice and to make our decision regarding respondent selection within 30 days of publication of the initiation Federal Register notice. Comments regarding the CBP data and respondent selection should be submitted within seven days after the placement of the CBP data on the record of this review. Parties wishing to submit rebuttal comments should submit those comments within five days after the deadline for the initial comments.

In the event Commerce decides it is necessary to limit individual examination of respondents and conduct respondent selection under section 777A(c)(2) of the Act, the following guidelines regarding collapsing of companies for purposes of respondent selection will apply. In general, Commerce has found that determinations concerning whether particular companies should be “collapsed” (e.g., treated as a single entity for purposes of calculating antidumping duty rates) require a substantial amount of detailed information and analysis, which often require follow-up questions and analysis. Accordingly, Commerce will not conduct collapsing analyses at the respondent selection phase of this review and will not collapse companies at the respondent selection phase unless there has been a determination to collapse certain companies in a previous segment of this antidumping proceeding (e.g., investigation, administrative review, new shipper review or changed circumstances review). For any company subject to this review, if Commerce determined, or continued to treat, that company as collapsed with others, Commerce will assume that such companies continue to operate in the same manner and will collapse them for respondent selection purposes. Otherwise, Commerce will not collapse companies for purposes of respondent selection. Parties are requested to (a) identify which companies subject to review previously were collapsed, and (b) provide a citation to the proceeding in which they were collapsed. Further, if companies are requested to complete the Quantity and Value (Q&V) Questionnaire for purposes of respondent selection, in general each company must report volume and value data separately for itself. Parties should not include data for any other party, even if they believe they should be treated as a single entity with that other party. If a company was collapsed with another company or companies in the most recently completed segment of this proceeding where Commerce considered collapsing that entity, complete Q&V data for that collapsed entity must be submitted.

Deadline for Withdrawal of Request for Administrative Review

Pursuant to 19 CFR 351.213(d)(1), a party that has requested a review may withdraw that request within 90 days of the date of publication of the notice of initiation of the requested review. The regulation provides that Commerce may extend this time if it is reasonable to do so. Determinations by Commerce to extend the 90-day deadline will be made on a case-by-case basis.

Deadline for Particular Market Situation Allegation

Section 504 of the Trade Preferences Extension Act of 2015 amended the Act by adding the concept of particular market situation (PMS) for purposes of constructed value under section 773(e) of the Act.² Section 773(e) of the Act states that “if a particular market situation exists such that the cost of materials and fabrication or other processing of any kind does not accurately reflect the cost of production in the ordinary course of trade, the administering authority may use another calculation methodology under this subtitle or any other calculation methodology.” When an interested party submits a PMS allegation pursuant to section 773(e) of the Act, Commerce will respond to such a submission consistent with 19 CFR 351.301(c)(2)(v). If Commerce finds that a PMS exists under section 773(e) of the Act, then it will modify its dumping calculations appropriately.

² See Trade Preferences Extension Act of 2015, Public Law 114-27, 129 Stat. 362 (2015).

Neither section 773(e) of the Act nor 19 CFR 351.301(c)(2)(v) set a deadline for the submission of PMS allegations and supporting factual information. However, in order to administer section 773(e) of the Act, Commerce must receive PMS allegations and supporting factual information with enough time to consider the submission. Thus, should an interested party wish to submit a PMS allegation and supporting new factual information pursuant to section 773(e) of the Act, it must do so no later than 20 days after submission of initial responses to section D of the questionnaire.

Separate Rates

In proceedings involving non-market economy (NME) countries, Commerce begins with a rebuttable presumption that all companies within the country are subject to government control and, thus, should be assigned a single antidumping duty deposit rate. It is Commerce's policy to assign all exporters of merchandise subject to an administrative review in an NME country this single rate unless an exporter can demonstrate that it is sufficiently independent so as to be entitled to a separate rate.

To establish whether a firm is sufficiently independent from government control of its export activities to be entitled to a separate rate, Commerce analyzes each entity exporting the subject merchandise. In accordance with the separate rates criteria, Commerce assigns separate rates to companies in NME cases only if respondents can demonstrate the absence of both de jure and de facto government control over export activities.

All firms listed below that wish to qualify for separate rate status in the administrative reviews involving NME countries must complete, as appropriate, either a separate rate application or certification, as described below. For these administrative reviews, in order to demonstrate separate rate eligibility, Commerce requires entities for whom a review was requested, that were assigned a separate rate in the most recent segment of this proceeding in which they participated, to certify that they continue to meet the criteria for obtaining a separate rate. The Separate Rate Certification form will be available on Commerce's website at http://enforcement.trade.gov/nme/nme-sep-rate.html on the date of publication of this Federal Register notice. In responding to the certification, please follow the “Instructions for Filing the Certification” in the Separate Rate Certification. Separate Rate Certifications are due to Commerce no later than 30 calendar days after publication of this Federal Register notice. The deadline and requirement for submitting a Certification applies equally to NME-owned firms, wholly foreign-owned firms, and foreign sellers who purchase and export subject merchandise to the United States.

Entities that currently do not have a separate rate from a completed segment of the proceeding ³ should timely file a Separate Rate Application to demonstrate eligibility for a separate rate in this proceeding. In addition, companies that received a separate rate in a completed segment of the proceeding that have subsequently made changes, including, but not limited to, changes to corporate structure, acquisitions of new companies or facilities, or changes to their official company name,⁴ should timely file a Separate Rate Application to demonstrate eligibility for a separate rate in this proceeding. The Separate Rate Status Application will be available on Commerce's website at http://enforcement.trade.gov/nme/nme-sep-rate.html on the date of publication of this Federal Register notice. In responding to the Separate Rate Status Application, refer to the instructions contained in the application. Separate Rate Status Applications are due to Commerce no later than 30 calendar days of publication of this Federal Register notice. The deadline and requirement for submitting a Separate Rate Status Application applies equally to NME-owned firms, wholly foreign-owned firms, and foreign sellers that purchase and export subject merchandise to the United States.

³ Such entities include entities that have not participated in the proceeding, entities that were preliminarily granted a separate rate in any currently incomplete segment of the proceeding (e.g., an ongoing administrative review, new shipper review, etc.) and entities that lost their separate rate in the most recently completed segment of the proceeding in which they participated.

⁴ Only changes to the official company name, rather than trade names, need to be addressed via a Separate Rate Application. Information regarding new trade names may be submitted via a Separate Rate Certification.

For exporters and producers who submit a separate-rate status application or certification and subsequently are selected as mandatory respondents, these exporters and producers will no longer be eligible for separate rate status unless they respond to all parts of the questionnaire as mandatory respondents.

Initiation of Reviews

In accordance with 19 CFR 351.221(c)(1)(i), we are initiating administrative reviews of the following antidumping and countervailing duty orders and findings. We intend to issue the final results of these reviews not later than April 30, 2020.

| Period to be reviewed
Antidumping Duty Proceedings
ARGENTINA: Biodiesel, A-357-820 | 10/31/17-3/31/19
Aceitera General Deheza S.A.
Bio Nogoya S.A.
Bunge Argentina S.A.
Cámara Argentina de Biocombustibles
Cargill S.A.C.I.
COFCO Argentina S.A.
Explora
GEFCO Argentina
LDC Argentina S.A.
Molinos Agro S.A.
Noble Argentina
Oleaginosa Moreno Hermanos S.A.
Patagonia Bioenergia
Renova S.A.
T6 Industrial SA (EcoFuel)
Unitec Bio S.A.
Vicentin S.A.I.C.
Viluco S.A.
INDONESIA: Biodiesel, A-560-830 | 10/31/17-3/31/19
PT. Cermerlang Energi Perkasa (CEP)
PT. Ciliandra Perkasa
PT. Musim Mas, Medan (aka PT. Musim Mas)
PT. Pelita Agung Agrindustri
Wilmar International Ltd. (aka Wilmar Trading PTE Ltd.)
REPUBLIC OF KOREA: Phosphor Copper, A-580-885 | 4/1/18-3/31/19
Bongsan Co., Ltd.
THE PEOPLE'S REPUBLIC OF CHINA: Aluminum Foil, A-570-053 | 11/2/17-3/31/19
Alcha International Holdings Limited
Baotou Alcha Aluminum Co., Ltd.
Dingsheng Aluminum Industries (Hong Kong) Trading Co., Ltd.
Granges Aluminum (Shanghai) Co., Ltd.
Guangxi Baise Xinghe Aluminum Industry Co., Ltd.
Hangzhou Dingsheng Import & Export Co. Ltd
Hangzhou Five Star Aluminum Co., Ltd.
Hangzhou Teemful Aluminum Co., Ltd.
Huafon Nikkei Aluminium Corporation
Hunan Suntown Marketing Limited
Jiangsu Alcha Aluminum Co., Ltd.
Jiangsu Dingsheng New Materials Joint-Stock Co., Ltd.
Jiangsu Huafeng Aluminum Industry Co., Ltd.
Jiangsu Zhongji Lamination Materials Co., (HK) Ltd.
Jiangsu Zhongji Lamination Materials Co., Ltd.
Jiangsu Zhongji Lamination Materials Stock Co., Ltd.
Jiangyin Dolphin Pack Ltd. Co.
Luoyang Longding Aluminium Industries Co., Ltd.
Shandong Yuanrui Metal Material Co., Ltd.
Shanghai Shenyan Packaging Materials Co., Ltd.
SNTO International Trade Limited
Suntown Technology Group Limited
Suzhou Manakin Aluminum Processing Technology Co., Ltd.
Walson (HK) Trading Co., Limited
Xiamen Xiashun Aluminium Foil Co., Ltd.
Yantai Donghai Aluminum Foil Co., Ltd.
Yantai Jintai International Trade Co., Ltd.
Yinbang Clad Material Co., Ltd.
Zhejiang Zhongjin Aluminum Industry Co., Ltd.
THE PEOPLE'S REPUBLIC OF CHINA: Certain Activated Carbon, A-570-904 | 4/1/18-3/31/19
AM Global Shipping Lines Co., Ltd.
Apex Maritime (Tianjin) Co., Ltd.
Beijing Pacific Activated Carbon Products Co., Ltd.
Beijing Kang Jie Kong International Cargo Agent Co Ltd.
Bengbu Modern Environmental Co., Ltd.
Brilliant Logistics Group Inc.
Carbon Activated Tianjin Co., Ltd.
China Combi Works Oy Ltd
China International Freight Co., Ltd.
Cohesion Freight (HK) Ltd.
Datong Juqiang Activated Carbon Co., Ltd.
Datong Municipal Yunguang
Datong Municipal Yunguang Activated Carbon Co., Ltd.
De Well Container Shipping Corp.
Derun Charcoal Carbon Co., Ltd.
Endurance Cargo Management Co., Ltd.
Envitek (China) Ltd.
Excel Shipping Co., Ltd.
Fujian Xinsen Carbon Co., Ltd.
Fuzhou Yihuan Carbon Co., Ltd.
Fuzhou Yuemengfeng Trade Co., Ltd.
Gongyi City Bei Shan Kou Water Purification Materials Factory
Guangdong Hanyan Activated Carbon Manufacturing Co., Ltd.
Guangzhou Four E'S Scientific Co., Ltd.
Hangzhou Hengxing Activated Carbon
Henan Dailygreen Trading Co., Ltd.
Honour Lane Shipping Ltd.
Ingevity Corp.
Ingevity Performance Materials
Jacobi Carbons AB
Jacobi Carbons, Inc.
Jacobi Carbons Industry (Tianjin) Co., Ltd.
Jiangsu Kejing Carbon Fiber Co., Ltd.
Jiangxi Yuanli Huaiyushan Active Carbon
Jilin Bright Future Chemicals Co.
Jilin Bright Future Chemicals Company, Ltd.
King Freight International Corp.
M Chemical Company, Inc.
Meadwestvaco Trading (Shanghai)
Muk Chi Trade Co., Ltd.
Nanping Yuanli Active Carbon Co.
Ningxia Guanghua Cherishmet Activated Carbon Co., Ltd.
Ningxia Huahui Activated Carbon Co., Ltd.
Ningxia Mineral & Chemical Ltd.
Pacific Star Express (China) Company Ltd.
Panalpina World Transport (Prc) Ltd.
Pingdingshan Green Forest Activated Carbon Factory
Pingdingshan Lvlin Activated Carbon Co., Ltd.
Pudong Prime International Logistics
Safround Logistics Co.
Seatrade International Transportation
Shanghai Caleb Industrial Co. Ltd.
Shanghai Express Global International
Shanghai Line Feng Int'l Transportation
Shanghai Pudong International Transportation
Shanghai Sunson Activated Carbon
Shanghai Xinjinhu Activated Carbon
Shanxi Dapu International Trade Co., Ltd.
Shanxi DMD Corp.
Shanxi Industry Technology Trading (ITT)
Shanxi Industry Technology Trading Co., Ltd.
Shanxi Sincere Industrial Co., Ltd.
Shanxi Tianxi Purification Filter
Shanxi Tianxi Purification Filter Co., Ltd.
Shenzhen Calux Purification
Shijiazhuang Tangju Trading Co.
Sinoacarbon International Trading Co., Ltd.
T.H.I. Group (Shanghai) Ltd.
Tancarb Activated Carbon Co.
Tancarb Activated Carbon Co., Ltd.
The Ultimate Solid Logistics Ltd
Tianjin Channel Filters Co., Ltd.
Tianjin Jacobi International Trading Co., Ltd.
Tianjin Maijin Industries Co., Ltd
Translink Shipping Inc.
Trans-Power International Logistics Co., Ltd.
Triple Eagle Container Line
U.S. United Logistics (Ningbo) Inc.
Yusen Logistics Co., Ltd.
Zhejiang Topc Chemical Industry
Zhengzhou Zhulin Activated Carbon
THE PEOPLE'S REPUBLIC OF CHINA: Certain Steel Threaded Rod, A-570-932 | 4/1/18-3/31/19
Aerospace Precision Corp. (Shanghai) Industry Co., Ltd
Aihua Holding Group Co. Ltd.
Autocraft Industry (Shanghai) Ltd.
Autocraft Industry Ltd.
Billion Land Ltd.
Billion Technology Ltd
Billiongold Hardware Co. Ltd
BOLT Mfg. Trade Ltd.
Brighton Best International (Taiwan) Inc.
Brother Holding Group Co. Ltd.
C and H International Corporation
Catic Fujian Co., Ltd.
Cci International Ltd.
Century Distribution Systems Inc
Certified Products International Inc.
Changshu City Standard Parts Factory
China Friendly Nation Hardware Technology Limited
D.M.D. International Co. Ltd.
Da Cheng Hardware Products Co., Ltd.
Dalian Xingxin Steel Fabrication
Dongxiang Accuracy Hardware Co., Ltd.
Ec International (Nantong) Co. Ltd.
Fastco (Shanghai) Trading Co., Ltd.
Fasten International Co., Ltd.
Fastenal Canada Ltd.
Fastwell Industry Co. Ltd.
Fook Shing Bolts & Nuts Co. Ltd.
Fuda Xiongzhen Machinery Co., Ltd.
Fuller Shanghai Co. Ltd.
Gem-Year Industrial Co. Ltd.
Guangdong Honjinn Metal & Plastic Co., Ltd.
Hainan Zhongyan United Development Co.
Haining Hifasters Industrial Co.
Haining Shende Imp. & Exp. Co. Ltd.
Haining Zhongda Fastener Co., Ltd.
Haiyan Ai&Lun Standard Fastener Co.
Haiyan Chaoqiang Standard Fastener
Haiyan Dayu Fasteners Co., Ltd.
Haiyan Evergreen Standard Parts Co. Ltd.
Haiyan Fuxin High Strength Fastener
Haiyan Hatehui Machinery Hardware
Haiyan Hurras Import & Export Co. Ltd.
Haiyan Jianhe Hardware Co. Ltd.
Haiyan Julong Standard Part Co. Ltd.
Haiyan Shangchen Imp. & Exp. Co.
Haiyan Yuxing Nuts Co. Ltd.
Hangzhou Everbright Imp. & Exp. Co. Lt
Hangzhou Grand Imp. & Exp. Co., Ltd.
Hangzhou Great Imp. & Exp. Co. Ltd.
Hangzhou Lizhan Hardware Co. Ltd.
Hangzhou Prostar Enterprises Ltd.
Hangzhou Tongwang Machinery Co., Ltd.
Hilti (China) Ltd.
Hong Kong Sunrise Fasteners Co. Ltd.
Hong Kong Yichen Co. Ltd.
Honoble Precision (China) Mfg.
IFI & Morgan Ltd.
Intech Industries Shanghai Co., Ltd.
Jiangsu Innovo Precision Machinery
Jiangsu Jinhuan Fastener Co., Ltd.
Jiangsu Zhongweiyu Communication Equipment Co. Ltd.
Jiashan Steelfit Trading Co. Ltd.
Jiashan Zhongsheng Metal Products Co., Ltd.
Jiaxing Allywin Mfg. Co., Ltd.
Jiaxing Brother Standard Part Co., Ltd
Jiaxing Chinafar Standard
Jiaxing Jinhow Import & Export Co., Ltd.
Jiaxing Sini Fastener Co., Ltd.
Jiaxing Xinyue Standard Part Co. Ltd.
Jiaxing Yaoliang Import & Export Co. Ltd.
Jinan Banghe Industry & Trade Co., Ltd.
Kinfast Hardware (Shenzhen) Ltd.
King Socket Screw Company Ltd.
L&W Fasteners Company
Macropower Industrial Inc.
Mai Seng International Trading Co., Ltd.
MB Services Company
Midas Union Co., Ltd.
Nanjing Prosper Import & Export Corporation Ltd.
Nantong Runyou Metal Products
New Pole Power System Co. Ltd.
Ningbiao Bolts & Nuts Manufacturing Co.
Ningbo Abc Fasteners Co., Ltd.
Ningbo Beilun Milfast Metalworks Co. Ltd.
Ningbo Beilun Pingxin Hardware Co., Ltd.
Ningbo Dexin Fastener Co. Ltd.
Ningbo Dongxin High-Strength Nut Co., Ltd.
Ningbo Exact Fasteners Co., Ltd.
Ningbo Fastener Factory
Ningbo Fengya Imp. and Exp. Co. Ltd.
Ningbo Fourway Co., Ltd.
Ningbo Haishu Holy Hardware Import and Export Co. Ltd.
Ningbo Haishu Wit Import & Export Co. Ltd.
Ningbo Haishu Yixie Import & Export Co. Ltd.
Ningbo Jinding Fastening Piece Co., Ltd.
Ningbo MPF Manufacturing Co. Ltd.
Ningbo Panxiang Imp. & Exp. Co. Ltd.
Ningbo Qianjiu Instrument Case Factory
Ningbo Seduno Imp. Exp. Co., Ltd.
Ningbo Yili Import & Export Co., Ltd.
Ningbo Yinzhou Dongxiang Accuracy Hardware Co., Ltd.
Ningbo Yinzhou Foreign Trade Co., Ltd.
Ningbo Yinzhou Woafan Industry & Trade Co., Ltd.
Ningbo Zhenghai Yongding Fastener Co., Ltd.
Ningbo Zhenhai Beisuda Equipment Co.
Ningbo Zhenhai Dingli Fastener Screw Co., Ltd.
Ningbo Zhenhai Jinhuan Fasteners
Ningbo Zhongjiang High Strength Bolts Co. Ltd.
Ningbo Zhongjiang Petroleum Pipes & Machinery Co. Ltd.
Orient International Holding Shanghai Rongheng Intl Trading Co. Ltd.
Orient Rider Corporation Ltd.
Panxiang Imp. & Exp. Co., Ltd.
Pol Shin Fastener (Zhejiang) Co.
Prosper Business and Industry Co., Ltd.
Qingdao Free Trade Zone Health Intl.
Qingdao Top Steel Industrial Co. Ltd.
RMB Fasteners Ltd.
Sampulse Industrial Co., Ltd.
Shaanxi Succeed Trading Co., Ltd.
Shanghai Autocraft Co., Ltd.
Shanghai Beitra Fasteners Co., Ltd.
Shanghai East Best Foreign Trade Co.
Shanghai East Best International Business Development Co., Ltd.
Shanghai E-Heng Imp. & Exp. Co. Ltd.
Shanghai Fortune International Co. Ltd.
Shanghai Furen International Trading
Shanghai Hunan Foreign Economic Co., Ltd.
Shanghai Jiabao Trade Development Co. Ltd.
Shanghai Nanshi Foreign Economic Co.
Shanghai Overseas International Trading Co. Ltd.
Shanghai Prime Machinery Co. Ltd.
Shanghai Printing & Dyeing and Knitting Mill
Shanghai Printing & Packaging Machinery Corp
Shanghai Recky International Trading Co., Ltd.
Shanghai Sinotex United Corp. Ltd.
Shanghai Strong Hardware Co. Li
Shanghai Wisechain Fasteners Ltd.
Shenzhen Fenda Technology Co., Ltd.
Shenzhen Haozhenghao Technology Co.
Shijiazhuang Huitongxiang Li Trade
Soyoung Industrial Co., Ltd.
SRC Metal (Shanghai) Co. Ltd.
Suntec Industries Co., Ltd.
Suzhou Henry International Trading Co., Ltd.
T and C Fastener Co. Ltd.
T and L Industry Co. Ltd.
Taizhou Maixing Machinery Co.
Telsto Development Co., Ltd.
The Hoffman Group International
Tianjin Port Free Trade Zone Tianjin Star International Trade Co., Ltd.
Tong Ming Enterprise Co., Ltd.
Tong Win International Co., Ltd.
Tri Steel Co., Ltd.
Wisechain Trading Limited
Wuxi Metec Metal Co. Ltd.
Xiamen Hua Min Imp. and Exp. Co. Ltd.
Xiamen Rongxinda Industry Co., Ltd.
Xiamen Yuhui Import & Export Co., Ltd.
Yogendra International
Yuyao Hualun Imp. & Exp. Co., Ltd.
Zhangjiagang Ever Faith Industry Co.
Zhejiang Heirrmu Mechanical and Electrical Equipment Manufacturing Co Ltd.
Zhejiang Heiter Industries Co., Ltd,
Zhejiang Heiter Mfg & Trade Co. Ltd.
Zhejiang Jin Zeen Fasteners Co. Ltd.
Zhejiang Junyue Standard Part Co., Ltd.
Zhejiang Junyue Standard Parts Co., Ltd.
Zhejiang Laibao Precision Technology Co. Ltd.
Zhejiang Metals & Minerals Imp & Exp Co. Ltd.
Zhejiang Morgan Brother Technology Co. Ltd.
Zhejiang New Century Imp & Exp Co. Ltd.
Zhejiang New Oriental Fastener Co., Ltd.
Zhejiang Zhenglian Industry Development Co., Ltd.
Zhongsheng Metal Co., Ltd.
Zhoushan Zhengyuan Standard Parts Co., Ltd.
THE PEOPLE'S REPUBLIC OF CHINA: Drawn Stainless Steel Sinks, A-570-983 | 4/1/18-3/31/19
B&R Industries Limited
Feidong Import and Export Co., Ltd.
Foshan Shunde MingHao Kitchen Utensils Co., Ltd.
Foshan Zhaoshun Trade Co., Ltd
Franke Asia Sourcing Ltd.
Grand Hill Work Company
Guangdong Dongyuan Kitchenware Industrial Co., Ltd.
Guangdong G-Top Import & Export Co., Ltd.
Guangdong New Shichu Import & Export Company Limited
Guangdong Yingao Kitchen Utensils Co., Ltd.
Hangzhou Heng's Industries Co., Ltd.
Hubei Foshan Success Imp & Exp Co. Ltd.
J&C Industries Enterprise Limited
Jiangmen Hongmao Trading Co., Ltd
Jiangmen New Star Hi-Tech Enterprise Ltd.
Jiangmen Pioneer Import & Export Co., Ltd.
Jiangxi Zoje Kitchen & Bath Industry Co., Ltd.
KaiPing Dawn Plumbing Products, Inc
Ningbo Afa Kitchen and Bath Co., Ltd.
Ningbo Oulin Kitchen Utensils Co., Ltd.
Primy Cooperation Limited
Shenzhen Kehuaxing Industrial Ltd.
Shunde Foodstuffs Import & Export Company Limited of Guangdong
Shunde Native Produce Import and Export Co., Ltd. of Guangdong
Xinhe Stainless Steel Products Co., Ltd.
Yuyao Afa Kitchenware Co., Ltd.
Zhongshan Newecan Enterprise Development Corporation
Zhongshan Silk Imp. & Exp. Group Co., Ltd. of Guangdong
Zhongshan Superte Kitchenware Co., Ltd
Zhuhai Kohler Kitchen & Bathroom Products Co. Ltd.
THE PEOPLE'S REPUBLIC OF CHINA: Magnesium Metal, A-570-896 | 4/1/18-3/31/19
Tianjin Magnesium International Co., Ltd.
Tianjin Magnesium Metal Co., Ltd.
THE PEOPLE'S REPUBLIC OF CHINA: Multilayered Wood Flooring,⁵ A-570-970 | 12/1/17-11/30/18
THE PEOPLE'S REPUBLIC OF CHINA: Stainless Steel Sheet and Strip, A-570-042 | 4/1/18-3/31/19
Ahonest Changjiang Stainless Co., Ltd.
Angang Hanyang Stainless Steel Corp. (LISCO)
Angang Guangzhou Stainless Steel Corporation (LISCO)
Anping Yuanjing Metal Products Co., Ltd.
Apex Industries Corporation
Baofeng Xianglong Stainless Steel (aka Baofeng Steel Group Co.)
Baojing Steel Ltd.
Baosteel Stainless Steel Co., Ltd.
Baosteel Desheng Stainless Steel Co., Ltd.
Baotou Huayong Stainless Steel Co., Ltd.
Beihai Chengde Ferronickel Stainless Steel
Beijing Dayang Metal Industry Co.
Beijing Hengsheng Tongda Stainless Steel
Beijing Jingnanfang Decoration Engineering Co., Ltd.
Benxi Iron and Steel
Chain Chon Metal (Kunshan)
Chain Chon Metal (Foshan)
Changhai Stainless Steel
Changzhou General Import and Export
Changzhou Taiye Sensing Technology Co., Ltd.
Compart Precision Co.
Dalian Yirui Import and Export Agent Co., Ltd.
Daming International Import and Export Co., Ltd.
Dongbei Special Steel Group Co., Ltd.
Double Stone Steel
Etco (China) International Trading Co., Ltd.
FHY Corporation
Foshan Foreign Economic Enterprise
Foshan Hermes Steel Co., Ltd.
Foshan Jinfeifan Stainless Steel Co.
Foshan Topson Stainless Steel Co.
Fugang Group
Fujian Fuxin Special Steel Co., Ltd.
Fujian Kaixi Stainless Steel
Fujian Wuhang STS Products Co., Ltd.
Gangzhan Steel Developing Co., Ltd.
Globe Express Services Co., Ltd.
Golden Fund International Trading Co.
Guangdong Forward Metal Supply Chain Co., Ltd.
Guangdong Guangxin Suntec Metal Holdings Co., Ltd.
Guanghan Tiancheng Stainless Steel Products Co., Ltd.
Guangxi Beihai Chengde Group
Guangxi Wuzhou Jinhai Stainless Steel Co.
Guangzhou Eversunny Trading Co., Ltd.
Haimen Senda Decoration Material Co.
Hanyang Stainless Steel Co. (LISCO)
Hebei Iron & Steel
Henan Tianhong Metal (Subsidiary of Foshan Mellow Stainless Steel Company)
Henan Xinjinhui Stainless Steel Co., Ltd. (aka Jinhui Group)
Huadi Steel Group Co., Ltd.
Ideal Products of Dongguan Ltd.
Irestal Shanghai Stainless Pipe (ISSP)
Jaway Metal Co., Ltd.
Jiangdu Ao Jian Sports Apparatus Factory
Jiangsu Daming Metal Products Co., Ltd.
Jiangsu Jihongxin Stainless Steel Co., Ltd.
Jiaxing Winner Import and Export Co., Ltd.
Jiaxing Zhongda Import and Export Co., Ltd.
Jieyang Baowei Stainless Steel Co., Ltd.
Jinyun Xinyongmao
Jiuquan Iron & Steel (JISCO)
Kuehne & Nagel, Ltd. (Ningbo)
Lianzhong Stainless Steel Corp. (LISCO)
Lu Qin (Hong Kong) Co., Ltd.
Maanshan Sungood Machinery Equipment Co., Ltd.
Minmetals Steel Co., Ltd.
Nanhi Tengshao Metal Manufacturing Co.
NB (Ningbo) Rilson Export & Import Corp.
Ningbo Baoxin Stainless Steel Co., Ltd.
Ningbo Bestco Import & Export Co., Ltd.
Ningbo Bingcheng Import & Export Co., Ltd.
Ningbo Chinaworld Grand Import & Export Co., Ltd.
Ningbo Dawon Resources Co., Ltd.
Ningbo Economic and Technological Development Zone (Beilun Xiapu)
Ningbo Hog Slat Trading Co., Ltd.
Ningbo New Hailong Import & Export Co.
Ningbo Polaris Metal Products Co.
Ningbo Portec Sealing Component
Ningbo Qiyi Precision Metals Co., Ltd.
Ningbo Seduno Import & Export Co., Ltd.
Ningbo Sunico International Ltd.
Ningbo Swoop Import & Export
Ningbo Yaoyi International Trading Co., Ltd.
Onetouch Business Service, Ltd.
Qianyuan Stainless Steel
Qingdao-Pohang Stainless Steel (QPSS)
Qingdao Rising Sun International Trading Co., Ltd.
Qingdao Sincerely Steel
Rihong Stainless Co., Ltd.
Ruitian Steel
Samsung Precision Stainless Steel (Pinghu) Co., Ltd.
Sejung Sea & Air Co., Ltd.
Shandong Huaye Stainless Steel Group Co., Ltd.
Shandong Mengyin Huarun Imp and Exp Co., Ltd.
Shandong Mingwei Stainless Steel Products Co., Ltd.
Shanghai Dongjing Import & Export Co.
Shanghai Fengye Industry Co., Ltd.
Shanghai Ganglian E-Commerce Holdings Co., Ltd.
Shanghai Krupp Stainless (SKS)
Shanghai Metal Corporation
Shanghai Tankii Alloy Material Co., Ltd.
Shanxi Taigang Stainless Steel Co., Ltd. (TISCO)
Shaoxing Andrew Metal Manufactured Co., Ltd.
Shenzhen Brilliant Sign Co., Ltd.
Shaoxing Yuzhihang Import & Export Trade Co., Ltd.
Shenzhen Wide International Trade Co., Ltd.
Sichuan Southwest Stainless Steel
Sichuan Tianhong Stainless Steel
Sino Base Metal Co., Ltd.
Suzhou Xinchen Precision Industrial Materials Co., Ltd.
Taishan Steel
Taiyuan Accu Point Technology, Co., Ltd.
Taiyuan Iron & Steel (TISCO)
Taiyuan Ridetaixing Precision Stainless Steel Incorporated Co., Ltd.
Taizhou Durable Hardware Co., Ltd.
Tiancheng Stainless Steel Products
Tianjin Fulida Supply Co., Ltd.
Tianjin Hongji Stainless Steel Products Co., Ltd.
Tianjin Jiuyu Trade Co., Ltd.
Tianjin Taigang Daming Metal Product Co., Ltd.
Tianjin Teda Ganghua Trade Co., Ltd.
Tianjin Tianchengjida Import & Export Trade Co., Ltd.
Tianjin Tianguan Yuantong Stainless Steel
TISCO Stainless Steel (HK), Ltd.
Top Honest Stainless Steel Co., Ltd.
TPCO Yuantong Stainless Steel Ware
Tsingshan Qingyuan
World Express Freight Co., Ltd.
Wuxi Baochang Metal Products Co., Ltd.
Wuxi Fangzhu Precision Materials Co.
Wuxi Grand Tang Metal Co., Ltd.
Wuxi Jinyate Steel Co., Ltd.
Wuxi Joyray International Corp.
Wuxi Shuoyang Stainless Steel Co., Ltd.
Xiamen Lizhou Hardware Spring Co., Ltd.
Xinwen Mining
Henan Xuyuan Stainless Steel Co., Ltd.
Yieh Corp., Ltd.
Yongjin Metal Technology
Yuyao Purenovo Stainless Steel Co., Ltd.
Zhangjiagang Pohang Stainless Steel Co., Ltd. (ZPSS)
Zhejiang Baohong Stainless Steel Co., Ltd.
Zhejiang Huashun Metals Co., Ltd.
Zhejiang Jaguar Import & Export Co., Ltd.
Zhejiang New Vision Import & Export
Zhejiang Yongjin Metal Technology Co., Ltd.
Zhengzhou Mingtai Industry Co., Ltd.
Zhenjiang Huaxin Import & Export
Zhenjiang Yongyin Metal Tech Co.
Zhenshi Group Eastern Special Steel Co., Ltd.
Zun Hua City Transcend Ti-Gold
Countervailing Duty Proceedings
INDIA: Fine Denier Polyester Staple Fiber,⁶ C-533-876 | 11/6/17-12/31/18
THE PEOPLE'S REPUBLIC OF CHINA: Aluminum Foil, C-570-054 | 8/14/18-12/31/18
Alcha International Holdings Limited
Baotou Alcha Aluminum Co., Ltd.
Dingsheng Aluminum Industries (Hong Kong) Trading Co. Ltd.
Granges Aluminum (Shanghai) Co., Ltd.
Guangxi Baise Xinghe Aluminum Industry Co., Ltd.
Hangzhou DingCheng Aluminum Co., Ltd.
Hangzhou Dingsheng Import & Export Co. Ltd.
Hangzhou Dingsheng Industrial Group Co., Ltd.
Hangzhou Five Star Aluminum Co., Ltd.
Hangzhou Teemful Aluminum Co., Ltd.
Huafon Nikkei Aluminium Corporation
Hunan Suntown Marketing Limited
Inner Mongolia Liansheng New Energy Material Joint-Stock Co., Ltd.
Jiangsu Alcha Aluminum Co., Ltd.
Jiangsu Dingsheng New Materials Joint-Stock Co. Ltd.
Jiangsu Huafeng Aluminum Industry Co., Ltd.
Jiangsu Zhongii Lamination Materials Stock Co., Ltd.
Jiangsu Zhongji Lamination Materials Co., Ltd.
Jiangsu Zhongji Lamination Materials Co., (HK) Limited
Jiangyin Dolphin Pack Ltd. Co.
Luoyang Longding Aluminium Industries Co., Ltd.
Manakin Industries, LLC
Shandong Yuanrui Metal Material Co., Ltd.
Shanghai Shenyan Packaging Materials Co., Ltd.
Shantou Wanshun Package Material Stock Co., Ltd.
SNTO International Trade Limited
Suntown Technology Group Limited
Suzhou Manakin Aluminum Processing Technology Co., Ltd.
Walson (HK) Trading Co., Limited
Walson (HK) Trading Co., Ltd.
Xiamen Xiashun Aluminium Foil Co., Ltd.
Yantai Donghai Aluminum Foil Co., Ltd.
Yantai Jintai International Trade Co., Ltd.
Yinbang Clad Material Co., Ltd.
Zhejiang Zhongjin Aluminum Industry Co., Ltd.
THE PEOPLE'S REPUBLIC OF CHINA: Stainless Steel Sheet and Strip, C-570-043 | 1/1/18-12/31/18
Ahonest Changjiang Stainless Co., Ltd.
Angang Hanyang Stainless Steel Corp. (LISCO)
Angang Guangzhou Stainless Steel Corporation (LISCO)
Anping Yuanjing Metal Products Co., Ltd.
Apex Industries Corporation
Baofeng Xianglong Stainless Steel (aka Baofeng Steel Group Co.)
Baojing Steel Ltd.
Baosteel Stainless Steel Co., Ltd.
Baosteel Desheng Stainless Steel Co., Ltd.
Baotou Huayong Stainless Steel Co., Ltd.
Beihai Chengde Ferronickel Stainless Steel
Beijing Dayang Metal Industry Co.
Beijing Hengsheng Tongda Stainless Steel
Beijing Jingnanfang Decoration Engineering Co., Ltd.
Benxi Iron and Steel
Chain Chon Metal (Kunshan)
Chain Chon Metal (Foshan)
Changhai Stainless Steel
Changzhou General Import and Export
Changzhou Taiye Sensing Technology Co., Ltd.
Compart Precision Co.
Dalian Yirui Import and Export Agent Co., Ltd.
Daming International Import and Export Co., Ltd.
Dongbei Special Steel Group Co., Ltd.
Double Stone Steel
Etco (China) International Trading Co., Ltd.
FHY Corporation
Foshan Foreign Economic Enterprise
Foshan Hermes Steel Co., Ltd.
Foshan Jinfeifan Stainless Steel Co.
Foshan Topson Stainless Steel Co.
Fugang Group
Fujian Fuxin Special Steel Co., Ltd.
Fujian Kaixi Stainless Steel
Fujian Wuhang STS Products Co., Ltd.
Gangzhan Steel Developing Co., Ltd.
Globe Express Services Co., Ltd.
Golden Fund International Trading Co.
Guangdong Forward Metal Supply Chain Co., Ltd.
Guangdong Guangxin Suntec Metal Holdings Co., Ltd.
Guanghan Tiancheng Stainless Steel Products Co., Ltd.
Guangxi Beihai Chengde Group
Guangxi Wuzhou Jinhai Stainless Steel Co.
Guangzhou Eversunny Trading Co., Ltd.
Haimen Senda Decoration Material Co.
Hanyang Stainless Steel Co. (LISCO)
Hebei Iron & Steel
Henan Tianhong Metal (Subsidiary of Foshan Mellow Stainless Steel Company)
Henan Xinjinhui Stainless Steel Co., Ltd. (aka Jinhui Group)
Huadi Steel Group Co., Ltd.
Ideal Products of Dongguan Ltd.
Irestal Shanghai Stainless Pipe (ISSP)
Jaway Metal Co., Ltd.
Jiangdu Ao Jian Sports Apparatus Factory
Jiangsu Daming Metal Products Co., Ltd.
Jiangsu Jihongxin Stainless Steel Co., Ltd.
Jiaxing Winner Import and Export Co., Ltd.
Jiaxing Zhongda Import and Export Co., Ltd.
Jieyang Baowei Stainless Steel Co., Ltd.
Jinyun Xinyongmao
Jiuquan Iron & Steel (JISCO)
Kuehne & Nagel, Ltd. (Ningbo)
Lianzhong Stainless Steel Corp. (LISCO)
Lu Qin (Hong Kong) Co., Ltd.
Maanshan Sungood Machinery Equipment Co., Ltd.
Minmetals Steel Co., Ltd.
Nanhi Tengshao Metal Manufacturing Co.
NB (Ningbo) Rilson Export & Import Corp.
Ningbo Baoxin Stainless Steel Co., Ltd.
Ningbo Bestco Import & Export Co., Ltd.
Ningbo Bingcheng Import & Export Co., Ltd.
Ningbo Chinaworld Grand Import & Export Co., Ltd.
Ningbo Dawon Resources Co., Ltd.
Ningbo Economic and Technological Development Zone (Beilun Xiapu)
Ningbo Hog Slat Trading Co., Ltd.
Ningbo New Hailong Import & Export Co.
Ningbo Polaris Metal Products Co.
Ningbo Portec Sealing Component
Ningbo Qiyi Precision Metals Co., Ltd.
Ningbo Seduno Import & Export Co., Ltd.
Ningbo Sunico International Ltd.
Ningbo Swoop Import & Export
Ningbo Yaoyi International Trading Co., Ltd.
Onetouch Business Service, Ltd.
Qianyuan Stainless Steel
Qingdao-Pohang Stainless Steel (QPSS)
Qingdao Rising Sun International Trading Co., Ltd.
Qingdao Sincerely Steel
Rihong Stainless Co., Ltd.
Ruitian Steel
Samsung Precision Stainless Steel (Pinghu) Co., Ltd.
Sejung Sea & Air Co., Ltd.
Shandong Huaye Stainless Steel Group Co., Ltd.
Shandong Mengyin Huarun Imp and Exp Co., Ltd.
Shandong Mingwei Stainless Steel Products Co., Ltd.
Shanghai Dongjing Import & Export Co.
Shanghai Fengye Industry Co., Ltd.
Shanghai Ganglian E-Commerce Holdings Co., Ltd.
Shanghai Krupp Stainless (SKS)
Shanghai Metal Corporation
Shanghai Tankii Alloy Material Co., Ltd.
Shanxi Taigang Stainless Steel Co., Ltd. (TISCO)
Shaoxing Andrew Metal Manufactured Co., Ltd.
Shenzhen Brilliant Sign Co., Ltd.
Shaoxing Yuzhihang Import & Export Trade Co., Ltd.
Shenzhen Wide International Trade Co., Ltd.
Sichuan Southwest Stainless Steel
Sichuan Tianhong Stainless Steel
Sino Base Metal Co., Ltd.
Suzhou Xinchen Precision Industrial Materials Co., Ltd.
Taishan Steel
Taiyuan Accu Point Technology, Co., Ltd.
Taiyuan Iron & Steel (TISCO)
Taiyuan Ridetaixing Precision Stainless Steel Incorporated Co., Ltd.
Taizhou Durable Hardware Co., Ltd.
Tiancheng Stainless Steel Products
Tianjin Fulida Supply Co., Ltd.
Tianjin Hongji Stainless Steel Products Co., Ltd.
Tianjin Jiuyu Trade Co., Ltd.
Tianjin Taigang Daming Metal Product Co., Ltd.
Tianjin Teda Ganghua Trade Co., Ltd.
Tianjin Tianchengjida Import & Export Trade Co., Ltd.
Tianjin Tianguan Yuantong Stainless Steel
TISCO Stainless Steel (HK), Ltd.
Top Honest Stainless Steel Co., Ltd.
TPCO Yuantong Stainless Steel Ware
Tsingshan Qingyuan
World Express Freight Co., Ltd.
Wuxi Baochang Metal Products Co., Ltd.
Wuxi Fangzhu Precision Materials Co.
Wuxi Grand Tang Metal Co., Ltd.
Wuxi Jinyate Steel Co., Ltd.
Wuxi Joyray International Corp.
Wuxi Shuoyang Stainless Steel Co., Ltd.
Xiamen Lizhou Hardware Spring Co., Ltd.
Xinwen Mining
Henan Xuyuan Stainless Steel Co., Ltd.
Yieh Corp., Ltd.
Yongjin Metal Technology
Yuyao Purenovo Stainless Steel Co., Ltd.
Zhangjiagang Pohang Stainless Steel Co., Ltd. (ZPSS)
Zhejiang Baohong Stainless Steel Co., Ltd.
Zhejiang Huashun Metals Co., Ltd.
Zhejiang Jaguar Import & Export Co., Ltd.
Zhejiang New Vision Import & Export
Zhejiang Yongjin Metal Technology Co., Ltd.
Zhengzhou Mingtai Industry Co., Ltd.
Zhenjiang Huaxin Import & Export
Zhenjiang Yongyin Metal Tech Co.
Zhenshi Group Eastern Special Steel Co., Ltd.
Zun Hua City Transcend Ti-Gold
Suspension Agreements
None

⁵ Commerce initiated an administrative review of Baroque Timber Industries (Zhongshan) Co., Ltd. See Initiation of Antidumping and Countervailing Duty Administrative Reviews, 84 FR 18777 (May 2, 2019). On April 23, 2014, the United States Court of International Trade (CIT) entered its final judgement in Baroque Timber Industries (Zhongshan) Company, Limited, et. al. v. United States, affirming the final determination redetermination with respect to the Samling Group pursuant to court order by the Department of Commerce pertaining to the less-than-fair-value investigation on multilayered wood flooring from the People's Republic of China. Pursuant to that CIT decision, effective May 2, 2014, Commerce excluded from the antidumping order multilayered wood flooring that is produced and exported by the Samling Group, which includes Baroque Timber Industries (Zhongshan) Co., Ltd. See Multilayered Wood Flooring from the People's Republic of China: Notice of Court Decision Not in Harmony with the Final Determination and Amended Final Determination of the Antidumping Duty Investigation, 79 FR 25109 (May 2, 2014). Thus, Commerce is initiating an administrative review only on entries where Baroque Timber Industries (Zhongshan) Co., Ltd. was the exporter but not the producer of subject merchandise.

⁶ In the initiation notice that published on May 29, 2019 (84 FR 24743) Commerce inadvertently listed the wrong case number for referenced case above. The correct case number is listed in this notice.

Duty Absorption Reviews

During any administrative review covering all or part of a period falling between the first and second or third and fourth anniversary of the publication of an antidumping duty order under 19 CFR 351.211 or a determination under 19 CFR 351.218(f)(4) to continue an order or suspended investigation (after sunset review), the Secretary, if requested by a domestic interested party within 30 days of the date of publication of the notice of initiation of the review, will determine whether antidumping duties have been absorbed by an exporter or producer subject to the review if the subject merchandise is sold in the United States through an importer that is affiliated with such exporter or producer. The request must include the name(s) of the exporter or producer for which the inquiry is requested.

Gap Period Liquidation

For the first administrative review of any order, there will be no assessment of antidumping or countervailing duties on entries of subject merchandise entered, or withdrawn from warehouse, for consumption during the relevant provisional-measures “gap” period, of the order, if such a gap period is applicable to the POR.

Administrative Protective Orders and Letters of Appearance

Interested parties must submit applications for disclosure under administrative protective orders in accordance with the procedures outlined in Commerce's regulations at 19 CFR 351.305. Those procedures apply to administrative reviews included in this notice of initiation. Parties wishing to participate in any of these administrative reviews should ensure that they meet the requirements of these procedures (e.g., the filing of separate letters of appearance as discussed at 19 CFR 351.103(d)).

Factual Information Requirements

Commerce's regulations identify five categories of factual information in 19 CFR 351.102(b)(21), which are summarized as follows: (i) Evidence submitted in response to questionnaires; (ii) evidence submitted in support of allegations; (iii) publicly available information to value factors under 19 CFR 351.408(c) or to measure the adequacy of remuneration under 19 CFR 351.511(a)(2); (iv) evidence placed on the record by Commerce; and (v) evidence other than factual information described in (i)-(iv). These regulations require any party, when submitting factual information, to specify under which subsection of 19 CFR 351.102(b)(21) the information is being submitted and, if the information is submitted to rebut, clarify, or correct factual information already on the record, to provide an explanation identifying the information already on the record that the factual information seeks to rebut, clarify, or correct. The regulations, at 19 CFR 351.301, also provide specific time limits for such factual submissions based on the type of factual information being submitted. Please review the final rule, available at http://enforcement.trade.gov/frn/2013/1304frn/2013-08227.txt, prior to submitting factual information in this segment.

Any party submitting factual information in an antidumping duty or countervailing duty proceeding must certify to the accuracy and completeness of that information.⁷ Parties are hereby reminded that revised certification requirements are in effect for company/government officials as well as their representatives. All segments of any antidumping duty or countervailing duty proceedings initiated on or after August 16, 2013, should use the formats for the revised certifications provided at the end of the Final Rule.⁸ Commerce intends to reject factual submissions in any proceeding segments if the submitting party does not comply with applicable revised certification requirements.

⁷ See section 782(b) of the Act.

⁸ See Certification of Factual Information To Import Administration During Antidumping and Countervailing Duty Proceedings, 78 FR 42678 (July 17, 2013) (Final Rule); see also the frequently asked questions regarding the Final Rule, available at http://enforcement.trade.gov/tlei/notices/factual_info_final_rule_FAQ_07172013.pdf.

Extension of Time Limits Regulation

Parties may request an extension of time limits before a time limit established under Part 351 expires, or as otherwise specified by the Secretary. See 19 CFR 351.302. In general, an extension request will be considered untimely if it is filed after the time limit established under Part 351 expires. For submissions which are due from multiple parties simultaneously, an extension request will be considered untimely if it is filed after 10:00 a.m. on the due date. Examples include, but are not limited to: (1) Case and rebuttal briefs, filed pursuant to 19 CFR 351.309; (2) factual information to value factors under 19 CFR 351.408(c), or to measure the adequacy of remuneration under 19 CFR 351.511(a)(2), filed pursuant to 19 CFR 351.301(c)(3) and rebuttal, clarification and correction filed pursuant to 19 CFR 351.301(c)(3)(iv); (3) comments concerning the selection of a surrogate country and surrogate values and rebuttal; (4) comments concerning CBP data; and (5) Q&V questionnaires. Under certain circumstances, Commerce may elect to specify a different time limit by which extension requests will be considered untimely for submissions which are due from multiple parties simultaneously. In such a case, Commerce will inform parties in the letter or memorandum setting forth the deadline (including a specified time) by which extension requests must be filed to be considered timely. This modification also requires that an extension request must be made in a separate, stand-alone submission, and clarifies the circumstances under which Commerce will grant untimely-filed requests for the extension of time limits. These modifications are effective for all segments initiated on or after October 21, 2013. Please review the final rule, available at http://www.gpo.gov/fdsys/pkg/FR-2013-09-20/html/2013-22853.htm, prior to submitting factual information in these segments.

These initiations and this notice are in accordance with section 751(a) of the Act (19 U.S.C. 1675(a)) and 19 CFR 351.221(c)(1)(i).

Dated: June 7, 2019.
James Maeder,
Associate Deputy Assistant Secretary for Antidumping and Countervailing Duty Operations.

[FR Doc. 2019-12502 Filed 6-12-19; 8:45 am]

BILLING CODE 3510-DS-P